ENVIRONMENTAL PROTECTION AGENCY

[EPA-HQ-OAR-2021-0097; FRL-10091-01-OMS]

Information Collection Request Submitted to OMB for Review and Approval; Comment Request; NESHAP for Municipal Solid Waste Landfills (Renewal)

AGENCY: Environmental Protection Agency (EPA).

ACTION: Notice.

SUMMARY: The Environmental Protection Agency has submitted an information collection request (ICR), NESHAP for Municipal Solid Waste Landfills (EPA ICR Number 1938.08, OMB Control Number 2060-0505) to the Office of Management and Budget (OMB) for review and approval in accordance with the Paperwork Reduction Act. This is a proposed extension of the ICR, which is currently approved through July 31, 2022. Public comments were previously requested via the Federal Register on April 13, 2021 during a 60-day comment period. This notice allows for an additional 30 days for public comments. A fuller description of the ICR is given below, including its estimated burden and cost to the public. An agency may not conduct or sponsor and a person is not required to respond to a collection of information unless it displays a currently valid OMB control number.

DATES: Additional comments may be submitted on or before August 29, 2022.

ADDRESSES: Submit your comments, referencing Docket ID Number EPA-HQ-OAR-2021-0097, to EPA using https://www.regulations.gov/ (our preferred method), by email to a-and-r-docket@epa.gov, or by mail to: EPA Docket Center, Environmental Protection Agency, Mail Code 28221T, 1200 Pennsylvania Ave. NW, Washington, DC 20460.

The EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Muntasir Ali, Sector Policies and Program Division (D243-05), Office of Air Quality Planning and Standards, U.S. Environmental Protection Agency, Research Triangle Park, North Carolina, 27711; telephone number: (919) 541-0833; email address: ali.muntasir@epa.gov.

SUPPLEMENTARY INFORMATION: Supporting documents, which explain in detail the information that the EPA will be collecting, are available in the public docket for this ICR. The docket can be viewed online at https://www.regulations.gov or in person at the EPA Docket Center, WJC West Building, Room 3334, 1301 Constitution Ave. NW, Washington, DC. The telephone number for the Docket Center is 202-566-1744. For additional information about EPA's public docket, visit http://www.epa.gov/dockets.

Abstract: The National Emission Standards for Hazardous Air Pollutants (NESHAP) for Municipal Solid Waste Landfills (40 CFR part 63, subpart AAAA) apply to existing and new municipal solid waste (MSW) landfills that have accepted waste since November 8, 1987 or have additional capacity for waste deposition, including those that operate as bioreactors, and the landfill either: (1) is a major source or is collocated with a major source; or (2) is an area source with a design capacity of 2.5 million megagrams (Mg) and 2.5 million cubic meters (m³), and emits either equal to or greater than 50 tons per year of non-methane organic compounds (NMOC). In general, all NESHAP standards require initial notifications, performance tests, and periodic reports by the owners/operators of the affected facilities. They are also required to maintain records of any period during which the monitoring system is inoperative. These notifications, reports, and records are essential in determining compliance, and are required of all affected facilities subject to NESHAP.

Form Numbers: 5900-522.

Respondents/affected entities: Municipal solid waste (MSW) landfills.

Respondent's obligation to respond: Mandatory (40 CFR part 63, subpart AAAA).

Estimated number of respondents: 1,169 (total).

Frequency of response: Annual, semi-annual.

Total estimated burden: 35,500 hours (per year). Burden is defined at 5 CFR 1320.3(b).

Total estimated cost: $3,290,000 (per year), includes $11,100 annualized capital or operation & maintenance costs.

Changes in the estimates: There is a small decrease in burden from the most recently approved ICR as currently identified in the OMB Inventory of Approved Burdens. This is due to several considerations. The regulations have been amended in the past three years. The March 26, 2020 amendments revised NESHAP Subpart AAAA, NSPS Subpart XXX and EG Subpart Cf to allow affected sources to demonstrate compliance with landfill gas control, operating, monitoring, recordkeeping, and reporting requirements by following the corresponding requirements in the MSW Landfills NESHAP, harmonizing the control requirements across all of the landfill rules. The 2020 amendments removed the SSM requirements from Subpart AAAA, resulting in a decrease in labor burden. The 2020 amendments added a new semiannual wet landfill monitoring report requirement, resulting in an increase in burden. Since the 2020 amendments also added an annual wet landfill monitoring report requirement to Subparts Cf and XXX, the additional burden to Subpart AAAA sources for this report consists of one additional report per year. The growth rate for this industry is low (two new landfills per year), resulting in a small increase in burden. There are no changes in the capital/startup or operation and maintenance (O&M) costs. The labor burden for re-familiarizing with the regulatory requirements each year was increased from 1 hour to 5 hours, so that the labor burden for this requirement is consistent with that of other NESHAPs. These changes resulted in a small decrease in labor burden (hours), and a small increase in labor costs, resulting in a small increase in costs from the previous ICR.

Courtney Kerwin,
Director, Regulatory Support Division.

[FR Doc. 2022-16250 Filed 7-28-22; 8:45 am]

BILLING CODE 6560-50-P